CONSUMER PRODUCT SAFETY COMMISSION

16 CFR Part 1241

[Docket No. CPSC-2006-0057]

Safety Standard for Portable Generators; Notice of Extension of Comment Period

AGENCY: U.S. Consumer Product Safety Commission.

ACTION: Extension of comment period.

SUMMARY: The Consumer Product Safety Commission (Commission or CPSC) voted to publish a notice of proposed rulemaking (NPR) in the Federal Register on November 2, 2016, concerning portable generators. The NPR invited the public to submit written comments during a comment period that would close 75 days after the date of publication of the NPR in the Federal Register. In response to a request for an extension, the Commission is extending the comment period.

DATES: Submit comments by April 24, 2017.

ADDRESSES: You may submit comments, identified by Docket No. CPSC-2006-0057, by any of the following methods:

Electronic Submissions

Submit electronic comments in the following way:

Federal eRulemaking Portal: http://www.regulations.gov. Follow the instructions for submitting comments. The Commission does not accept comments submitted by electronic mail (email), except through: http://www.regulations.gov. The Commission encourages you to submit electronic comments by using the Federal eRulemaking Portal, as described above.

Written Submissions

Submit written submissions in the following way:

Mail/Hand delivery/Courier, preferably in five copies, to: Office of the Secretary, Consumer Product Safety Commission, Room 820, 4330 East-West Highway, Bethesda, MD 20814; telephone (301) 504-7923.

Instructions: All submissions received must include the agency name and docket number for this notice. All comments received may be posted without change, including any personal identifiers, contact information, or other personal information provided, to: http://www.regulations.gov. Do not submit confidential business information, trade secret information, or other sensitive or protected information electronically. Such information should be submitted in writing.

Docket: For access to the docket to read background documents or comments received, go to: http://www.regulations.gov and insert the Docket No. CPSC-2006-0057 into the “Search” box and follow the prompts.

SUPPLEMENTARY INFORMATION: On November 2, 2016, the Commission voted to publish an NPR in the Federal Register, proposing standards that would apply to portable generators. The NPR was published on November 21, 2016, with a 75-day comment period that will close on February 6, 2017. The Commission issued the proposed rule under the authority of the Consumer Product Safety Act (CPSA). The Portable Generator Manufacturers' Association (PGMA) has requested an additional 75 days to do research, conduct testing, and review the portable generator briefing package and supporting documents to prepare public comments on the NPR.¹

¹ The Commission voted (4-1) to publish this notice in the Federal Register. Chairman Elliot F. Kaye and Commissioners Robert S. Adler, Joseph P. Mohorovic, and Marietta S. Robinson voted to approve publication of this notice. Commissioner Ann Marie Buerkle voted against publication of this notice.

The Commission has considered this request and is extending the comment period for an additional 75 days until April 24, 2017.

Dated: December 8, 2016.
Todd A. Stevenson,
Secretary, U.S. Consumer Product Safety Commission.

[FR Doc. 2016-29845 Filed 12-12-16; 8:45 am]

BILLING CODE 6355-01-P